DEPARTMENT OF HOUSING AND URBAN DEVELOPMENT

[Docket No. FR-5125-N-19]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Veronica Rines, Headquarters, Department of the Army, Office of the Assistant Chief of Staff for Installation Management, Attn: DAIM-ZS, Room 8536, 2511 Jefferson Davis Hwy, Arlington, VA 22202; (703) 601-2545; (These are not toll-free numbers).

Dated: May 3, 2007.
Mark R. Johnston,
Deputy Assistant Secretary for Special Needs.

TITLE V, FEDERAL SURPLUS PROPERTY PROGRAM FEDERAL REGISTER REPORT FOR 05/11/2007

Suitable/Available Properties

Building

Alaska

Bldg. 00001

Holy Cross Armory

High Cross AK 99602

Landholding Agency: Army

Property Number: 21200710051

Status: Excess

Comments: 1200 sq. ft. armory, off-site use only

California

Bldg. 00119

Fort Hunter Liggett

Monterey CA 93930

Landholding Agency: Army

Property Number: 21200710052

Status: Unutilized

Comments: 4340 sq. ft., presence of asbestos, most recent use—storage, off-site use only

Bldgs. 00295, 00573

Moffett Field

Santa Clara CA 94035

Landholding Agency: Army

Property Number: 21200710054

Status: Unutilized

Comments: Baseball fields, off-site use only

Suitable/Available Properties

Building

California

Bldgs. 00576, 00577

Moffett Field

Santa Clara CA 94035

Landholding Agency: Army

Property Number: 21200710056

Status: Unutilized

Comments: 1968/2400 sq. ft., most recent use—youth shelter, possible asbestos, off-site use only

Bldg. 00578

Moffett Field

Santa Clara CA 94035

Landholding Agency: Army

Property Number: 21200710057

Status: Unutilized

Comments: 851 sq. ft., most recent use—recreation shelter, off-site use only

Bldg. 00597

Moffett Field

Santa Clara CA 94035

Landholding Agency: Army

Property Number: 21200710058

Status: Unutilized

Comments: 881 sq. ft., most recent use—snack bar, off-site use only

Bldg. 00598

Moffett Field

Santa Clara CA 94035

Landholding Agency: Army

Property Number: 21200710059

Status: Unutilized

Comments: 960 sq. ft., most recent use—recreation shelter, off-site use only

Suitable/Available Properties

Building

California

Bldgs. 00732, 00733, 00734

Moffett Field

Santa Clara CA 94035

Landholding Agency: Army

Property Number: 21200710060

Status: Unutilized

Comments: 360 sq. ft., most recent use—bus shelters, off-site use only

14 Bldgs

Moffett Field

Santa Clara CA 94035

Landholding Agency: Army

Property Number: 21200710061

Status: Unutilized

Directions: 00827, 00829, 00831, 00833, 00835, 00837, 00839, 00841, 00843, 00845, 00847, 00849, 00851, 00853

Comments: Basketball courts, off-site use only

Bldg. 07000

Moffett Field

Santa Clara CA 94035

Landholding Agency: Army

Property Number: 21200710062

Status: Unutilized

Comments: 5956 sq. ft., possible asbestos/lead paint, most recent use—four family dwelling unit, off-site use only

Bldg. 07001

Moffett Field

Santa Clara CA 94035

Landholding Agency: Army

Property Number: 21200710063

Status: Unutilized

Comments: 945 sq. ft., most recent use—carport, off-site use only

Suitable/Available Properties

Building

California

Bldgs. 07010, 07020

Moffett Field

Santa Clara CA 94035

Landholding Agency: Army

Property Number: 21200710064

Status: Unutilized

Comments: 10256 sq. ft. ea., possible asbestos/lead paint, most recent use—8 family dwelling unit, off-site use only

Bldgs. 07011, 07021

Moffett Field

Santa Clara CA 94035

Landholding Agency: Army

Property Number: 21200710065

Status: Unutilized

Comments: 1680 sq. ft. each, most recent use—carports, off-site use only

Bldgs. 07030, 07040

Moffett Field

Santa Clara CA 94035

Landholding Agency: Army

Property Number: 21200710066

Status: Unutilized

Comments: 12,820 sq. ft. each, possible asbestos/lead paint, most recent use—10 family dwelling unit, off-site use only

Bldgs. 07031, 07041, 07042

Moffett Field

Santa Clara CA 94035

Landholding Agency: Army

Property Number: 21200710067

Status: Unutilized

Comments: 2058/1302/945 sq. ft., most recent use—carports, off-site use only

Suitable/Available Properties

Building

California

Bldgs. 07050, 07060, 07070

Moffett Field

Santa Clara CA 94035

Landholding Agency: Army

Property Number: 21200710068

Status: Unutilized

Comments: 10256 sq. ft., possible asbestos/lead paint, most recent use—8 family dwelling units, off-site use only

4 Bldgs.

Moffett Field 07051, 07061, 07062, 07071

Santa Clara CA 94035

Landholding Agency: Army

Property Number: 21200710069

Status: Unutilized

Comments: 1680/945 sq. ft., most recent use—carports, off-site use only

Bldgs. 07080, 07100, 07120

Moffett Field

Santa Clara CA 94035

Landholding Agency: Army

Property Number: 21200710070

Status: Unutilized

Comments: 5956 sq. ft., possible asbestos/lead paint, most recent use—4 family dwelling unit, offsite use only

Suitable/Available Properties

Building

California

7 Bldgs.

Moffett Field

Santa Clara CA 94035

Landholding Agency: Army

Property Number: 21200710071

Status: Unutilized

Directions: 07081, 07091, 07101, 07111, 07121, 07131, 07141

Comments: 1302 sq. ft., most recent use—carports, off-site use only

5 Bldgs.

Moffett Field

Santa Clara CA 94035

Landholding Agency: Army

Property Number: 21200710072

Status: Unutilized

Directions: 07130, 07140, 07150, 07160

Comments: 10256 sq. ft., possible asbestos/lead paint, most recent use—8 family dwelling unit, offsite use only

Bldg. 07090

Moffett Field

Santa Clara CA 94035

Landholding Agency: Army

Property Number: 21200710073

Status: Unutilized

Comments: 12820 sq. ft., most recent use—10 family dwelling unit, possible asbestos/lead paint, off-site use only

Suitable/Available Properties

Building

California

5 Bldgs.

Moffett Field 07142, 07152, 07161, 07191, 07201

Santa Clara CA 94035

Landholding Agency: Army

Property Number: 21200710074

Status: Unutilized

Comments: 945 sq. ft., most recent use—carports, off-site use only

6 Bldgs.

Moffett Field 07151, 07171, 07181, 07202, 07211, 07221

Santa Clara CA 94035

Landholding Agency: Army

Property Number: 21200710075

Status: Unutilized

Comments: 1302 sq. ft., most recent use—carports, off-site use only

Bldgs. 07110, 07170

Moffett Field

Santa Clara CA 94035

Landholding Agency: Army

Property Number: 21200710076

Status: Unutilized

Comments: 7692/8520 sq. ft., possible asbestos/lead paint, most recent use—6 family dwelling unit, off-site use only

Suitable/Available Properties

Building

California

5 Bldgs.

Moffett Field 07190, 07200, 07210, 07230, 07240

Santa Clara CA 94035

Landholding Agency: Army

Property Number: 21200710077

Status: Unutilized

Comments: 10256 sq. ft., possible asbestos/lead paint, most recent use—8 family dwelling unit, offsite use only

4 Bldgs.

Moffett Field 07231, 07251, 07261, 07271

Santa Clara CA 94035

Landholding Agency: Army

Property Number: 21200710078

Status: Unutilized

Comments: 1680 sq. ft., most recent use—carports, off-site use only

Bldgs. 07260, 07280

Moffett Field

Santa Clara CA 94035

Landholding Agency: Army

Property Number: 21200710079

Status: Unutilized

Comments: 10256 sq. ft., possible asbestos/lead paint, most recent use—8 family dwelling unit, offsite use only

Suitable/Available Properties

Building

California

Bldgs. 07220, 07290

Moffett Field

Santa Clara CA 94035

Landholding Agency: Army

Property Number: 21200710080

Status: Unutilized

Comments: 7692 sq. ft., possible asbestos/lead paint, most recent use—6 family dwelling unit, offsite use only

Bldg. 07241

Moffett Field

Santa Clara CA 94035

Landholding Agency: Army

Property Number: 21200710081

Status: Unutilized

Comments: 2058 sq. ft., most recent use—carport, off-site use only

Bldg. 07250

Moffett Field

Santa Clara CA 94035

Landholding Agency: Army

Property Number: 21200710082

Status: Unutilized

Comments: 11804 sq. ft., possible asbestos/lead paint, most recent use—8 family dwelling unit, offsite use only

Bldg. 07270

Moffett Field

Santa Clara CA 94035

Landholding Agency: Army

Property Number: 21200710083

Status: Unutilized

Comments: 12820 sq. ft., possible asbestos/lead paint, most recent use—10 family dwelling unit, off-site use only

Suitable/Available Properties

Building

California

Bldg. 07281

Moffett Field

Santa Clara CA 94035

Landholding Agency: Army

Property Number: 21200710084

Status: Unutilized

Comments: 945 sq. ft., most recent use—carport, off-site use only

Bldgs. 07282, 07291

Moffett Field

Santa Clara CA 94035

Landholding Agency: Army

Property Number: 21200710085

Status: Unutilized

Comments: 1302 sq. ft., most recent use—carport, off-site use only

Bldgs. 08000, 08010

Moffett Field

Santa Clara CA 94035

Landholding Agency: Army

Property Number: 21200710086

Status: Unutilized

Comments: 3708 sq. ft., possible asbestos/lead paint, most recent use—2 family dwelling unit, off-site use only

Bldg. 08020

Moffett Field

Santa Clara CA 94035

Landholding Agency: Army

Property Number: 21200710088

Status: Unutilized

Comments: 9579 sq. ft., possible asbestos/lead paint, most recent use—6 family dwelling unit, off-site use only

Suitable/Available Properties

Building

California

Bldg. 08030

Moffett Field

Santa Clara CA 94035

Landholding Agency: Army

Property Number: 21200710089

Status: Unutilized

Comments: 16264 sq. ft., possible asbestos/lead paint, most recent use—6 family dwelling unit, off-site use only

5 Bldgs.

Moffett Field 08040, 08050, 08060, 08070, 08080

Santa Clara CA 94036

Landholding Agency: Army

Property Number: 21200710090

Status: Unutilized

Comments: 8710 sq. ft., possible asbestos/lead paint, most recent use—6 family dwelling unit, off-site use only

Bldg. 08090

Moffett Field

Santa Clara CA 94035

Landholding Agency: Army

Property Number: 21200710091

Status: Unutilized

Comments: 3780 sq. ft., possible abestos/lead paint, most recent use—2 family dwelling unit, off-site use only

Suitable/Available Properties

Building

California

Bldg. 08130

Moffett Field

Santa Clara CA 94035

Landholding Agency: Army

Property Number: 21200710092

Status: Unutilized

Comments: 7084 sq. ft., possible asbestos/lead paint, most recent use—4 family dwelling unit, off-site use only

5 Bldgs.

Moffett Field 08100, 08110, 08120, 08140, 08150

Santa Clara CA 94035

Landholding Agency: Army

Property Number: 21200710093

Status: Unutilized

Comments: 8710 sq. ft., possible asbestos/lead paint, most recent use—6 family dwelling unit, off-site use only

4 Bldgs.

Moffett Field 08160, 08170, 08180, 08190

Santa Clara CA 94035

Landholding Agency: Army

Property Number: 21200710094

Status: Unutilized

Comments: 8710 sq. ft., possible asbestos/lead paint, most recent use—6 family dwelling unit, off-site use only

Suitable/Available Properties

Building

California

5 Bldgs.

Moffett Field 08200, 08210, 08220, 08230, 08240

Santa Clara CA 94035

Landholding Agency: Army

Property Number: 21200710095

Status: Unutilized

Comments: 8710 sq. ft., possible asbestos/lead paint, most recent use—6 family dwelling unit, off-site use only

Bldg. 08250

Moffett Field

Santa Clara CA 94035

Landholding Agency: Army

Property Number: 21200710096

Status: Unutilized

Comments: 3624 sq. ft., possible asbestos/lead paint, 2 family dwelling unit, off-site use only

Bldg. 08260

Moffett Field

Santa Clara CA 94035

Landholding Agency: Army

Property Number: 21200710097

Status: Unutilized

Comments: 8461 sq. ft., possible asbestos/lead paint, most recent use—5 family dwelling unit, off-site use only

Bldg. 08280

Moffett Field

Santa Clara CA 94035

Landholding Agency: Army

Property Number: 21200710098

Status: Unutilized

Comments: 5337 sq. ft., possible asbestos/lead paint, most recent use—3 family dwelling unit, off-site use only

Suitable/Available Properties

Building

California

Bldgs. 08300, 08320, 08340

Moffett Field

Santa Clara CA 94035

Landholding Agency: Army

Property Number: 21200710099

Status: Unutilized

Comments: 9579 sq. ft., possible asbestos/lead paint, most recent use—6 family dwelling unit, off-site use only

Bldgs. 08380, 08400

Moffett Field

Santa Clara CA 94035

Landholding Agency: Army

Property Number: 21200710100

Status: Unutilized

Comments: 17199 sq. ft., possible asbestos/lead paint, most recent use—12 family dwelling unit, off-site use only

Bldg. 08440

Moffett Field

Santa Clara CA 94035

Landholding Agency: Army

Property Number: 21200710101

Status: Unutilized

Comments: 12961 sq. ft., possible asbestos/lead paint, most recent use—8 family dwelling unit, off-site use only

Bldgs. 08420, 08460, 08480

Moffett Field

Santa Clara CA 94035

Landholding Agency: Army

Property Number: 21200710102

Status: Unutilized

Comments: 8710 sq. ft., possible asbestos/lead paint, most recent use—6 family dwelling unit, off-site use only

Suitable/Available Properties

Building

California

6 Bldgs.

Moffett Field 08500, 08520, 08540, 08560, 08580, 08600

Santa Clara CA 94035

Landholding Agency: Army

Property Number: 21200710103

Status: Unutilized

Comments: 8710 sq. ft., possible asbestos/lead paint, most recent use—6 family dwelling unit, off-site use only

Colorado

Bldg. 01516

Fort Carson

El Paso CO 80913

Landholding Agency: Army

Property Number: 21200640116

Status: Unutilized

Comments: 723 sq. ft., needs repair, most recent use—storage, off-site use only

Georgia

Bldg. 07783

Fort Stewart

Hinesville GA 31314

Landholding Agency: Army

Property Number: 21200640093

Status: Excess

Comments: 8640 sq. ft., most recent use—maintenance hangar, off-site use only

Suitable/Available Properties

Building

Georgia

Bldg. 08061

Fort Stewart

Hinesville GA 31314

Landholding Agency: Army

Property Number: 21200640094

Status: Excess

Comments: 1296 sq. ft., most recent use—weather station, off-site use only

Oklahoma

Bldgs. 00937, 00957

Fort Sill

Lawton OK 73501

Landholding Agency: Army

Property Number: 21200710104

Status: Unutilized

Comments: 1558 sq. ft., most recent use—storage shed, off-site use only

Bldg. 01514

Fort Sill

Lawton OK 73501

Landholding Agency: Army

Property Number: 21200710105

Status: Unutilized

Comments: 1602 sq. ft., most recent use—storage, off-site use only

Suitable/Available Properties

Building

Texas

Bldg. 07008

Fort Hood

Ft. Hood Co: Bell TX 76544

Landholding Agency: Army

Property Number: 21200640097

Status: Excess

Comments: 288 sq. ft., presence of asbestos, most recent use—equipment bldg., off-site use only

Bldg. 90036

Fort Hood

Ft. Hood Co: Bell TX 76544

Landholding Agency: Army

Property Number: 21200640098

Status: Excess

Comments: 13,124 sq. ft., presence of asbestos, most recent use—admin., off-site use only

Bldg. 90037

Fort Hood

Ft. Hood Co: Bell TX 76544

Landholding Agency: Army

Property Number: 21200640099

Status: Excess

Comments: 13,124 sq. ft., pressence of asbestos, most recent use—admin., off-site use only

Bldg. 90139

Fort Hood

Ft. Hood Co: Bell TX 76544

Landholding Agency: Army

Property Number: 21200640100

Status: Excess

Comments: 800 sq. ft., most recent use—oil storage, off-site use only

Suitable/Available Properties

Building

Texas

Bldg. 92039

Fort Hood

Ft. Hood Co: Bell TX 76544

Landholding Agency: Army

Property Number: 21200640101

Status: Excess

Comments: 80 sq. ft., most recent use—storage, off-site use only

Bldgs. 90137, 90138

Fort Hood

Bell TX 76544

Landholding Agency: Army

Property Number: 21200640121

Status: Excess

Comments: 16,800 sq. ft., most recent use—admin/shop, off-site use only

Wisconsin

Bldg. 02132

Fort McCoy

Monroe WI 54656

Landholding Agency: Army

Property Number: 21200640102

Status: Unutilized

Comments: 9000 sq. ft., presence of asbestos/lead paint, most recent use—commissary, off-site use only

Bldg. 00445

Fort McCoy

Monroe WI 54656

Landholding Agency: Army

Property Number: 21200640122

Status: Excess

Comments: 2700 sq. ft., presence of asbestos/lead paint, most recent use—storage, off-site use only

Suitable/Available Properties

Building

Wisconsin

Bldg. 00856

Fort McCoy

Monroe WI 54656

Landholding Agency: Army

Property Number: 21200640123

Status: Excess

Comments: 2500 sq. ft., presence of asbestos/lead paint, most recent use—storage, off-site use only

Bldg. 01253

Fort McCoy

Monroe WI 54656

Landholding Agency: Army

Property Number: 21200640124

Status: Excess

Comments: 1750 sq. ft., presence of asbestos/lead paint, most recent use—storage, off-site use only

Land

Maryland

2 acres

Fort Meade

Odenton Rd/Rt 175

Ft. Meade MD 20755

Landholding Agency: Army

Property Number: 21200640095

Status: Unutilized

Comments: light industrial

Suitable/Available Properties

Land

Maryland

16 acres

Fort Meade

Rt 198/Airport Road

Ft. Meade MD 20755

Landholding Agency: Army

Property Number: 21200640096

Status: Unutilized

Comments: Light industrial

Summary for Suitable/Available Properties

= Total number of Properties 164

Suitable/Unavailable Properties

Building

Texas

Bldg. 09504

Fort Hood

Bell TX 76544

Landholding Agency: Army

Property Number: 21200640117

Status: Unutilized

Comments: 120 sq. ft., presence of asbestos, most recent use—oil storage off-site use only

Bldg. 56303

Fort Hood

Bell TX 76544

Landholding Agency: Army

Property Number: 21200640118

Status: Unutilized

Comments: 2750 sq. ft., presence of asbestos, most recent use—equipment bldg., off-site use only

Suitable/Unavailable Properties

Building

Texas

Bldg. 56325

Fort Hood

Bell TX 76544

Landholding Agency: Army

Property Number: 21200640119

Status: Unutilized

Comments: 2100 sq. ft., presence of asbestos, most recent use—fire station, off-site use only

Bldg. 56326

Fort Hood

Bell TX 76544

Landholding Agency: Army

Property Number: 21200640120

Status: Unutilized

Comments: 3120 sq. ft., presence of asbestos, most recent use—fire station, off-site use only

Wisconsin

Bldg. 05030

Fort McCoy

Monroe WI 54656

Landholding Agency: Army

Property Number: 21200640103

Status: Unutilized

Comments: 1536 sq. ft., presence of asbestos/lead paint, most recent use—housing, off-site use only

Bldg. 05032

Fort McCoy

Monroe WI 54656

Landholding Agency: Army

Property Number: 21200640104

Status: Unutilized

Comments: 576 sq. ft., presence of asbestos/lead paint, most recent use—garage, off-site use only

Suitable/Unavailable Properties

Building

Wisconsin

Bldg. 06181

Fort McCoy

Monroe WI 54656

Landholding Agency: Army

Property Number: 21200640105

Status: Unutilized

Comments: 1823 sq. ft., presence of asbestos/lead paint, most recent use—housing, off-site use only

Bldg. 06188

Fort McCoy

Monroe WI 54656

Landholding Agency: Army

Property Number: 21200640106

Status: Unutilized

Comments: 3416 sq. ft., presence of asbestos/lead paint, most recent use—housing, off-site use only

Bldg. 07051

Fort McCoy

Monroe WI 54656

Landholding Agency: Army

Property Number: 21200640107

Status: Unutilized

Comments: 3412 sq. ft., presence of asbestos/lead paint, most recent use—housing, off-site use only

Summary for Suitable/Unavailable Properties

= Total number of Properties 9

[FR Doc. E7-8820 Filed 5-10-07; 8:45 am]

BILLING CODE 4210-67-P